ENVIRONMENTAL PROTECTION AGENCY

[EPA-HQ-OECA-2013-0341; FRL-9536-2]

Information Collection Request Submitted to OMB for Review and Approval; Comment Request; NESHAP for Plywood and Composite Products (Renewal)

AGENCY: Environmental Protection Agency (EPA).

ACTION: Notice.

SUMMARY: The Environmental Protection Agency has submitted an information collection request (ICR), “NESHAP for Plywood and Composite Products (40 CFR Part 63, Subpart DDDD) (Renewal)” (EPA ICR No. 1984.05, OMB Control No. 2060-0552), to the Office of Management and Budget (OMB) for review and approval in accordance with the Paperwork Reduction Act (44 U.S.C. 3501 et seq.) This is a proposed extension of the ICR, which is currently approved through October 31, 2013. Public comments were previously requested via the Federal Register (78 FR 33409) on June 4, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before October 15, 2013.

ADDRESSES: Submit your comments, referencing Docket ID Number EPA-HQ-OECA-2013-0341, to: (1) EPA online, using www.regulations.gov (our preferred method), by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION:

Supporting documents which explain in detail the information that the EPA will be collecting are available in the public docket for this ICR. The docket can be viewed online at www.regulations.gov or in person at the EPA Docket Center, EPA West, Room 3334, 1301 Constitution Ave., NW., Washington, DC. The telephone number for the Docket Center is 202-566-1744. For additional information about EPA's public docket, visit: http://www.epa.gov/dockets.

Abstract: The NESHAP for Plywood and Composite Products covers both new and existing plywood and composite wood products (PCWP) facilities. Plywood and composite products include, but are not limited to plywood, veneer, particleboard, oriented strand board, hardboard, fiberboard, medium density fiberboard, laminated strand lumber, laminated veneer lumber, wood I-joists, kiln-dried lumber and glue-laminated beams.

Owners/operators of plywood and composite products facilities are required to submit an initial notification report, performance tests, and compliance status reports. Also, respondents are required to maintain records of the occurrence and duration of any startup, shutdown, or malfunction in the operation of an affected facility, or any period during which the monitoring system is inoperative. Semiannual reports are required.

Form Numbers: None.

Respondents/affected entities: Plywood and composite product manufacturing facilities.

Respondent's obligation to respond: Mandatory (40 CFR part 63, subpart DDDD).

Estimated number of respondents: 228 (total).

Frequency of response: Initially and semiannually.

Total estimated burden: 11,687 hours (per year). “Burden” is defined at 5 CFR 1320.3(b).

Total estimated cost: $1,159,112 (per year), includes $15,960 annualized capital or operation & maintenance costs.

Changes in the Estimates: There is an adjustment increase in the respondent burden from the most-recently approved ICR. This is not due to any program changes. The adjustment increase is the result of a labor rate increase and a rounding correction. The previous ICR rounded the number of hours required to record continuous parameter information. This ICR uses a more- accurate estimate in calculating this burden.

John Moses,
Director, Collection Strategies Division.

[FR Doc. 2013-22221 Filed 9-11-13; 8:45 am]

BILLING CODE 6560-50-P